DEPARTMENT OF THE INTERIOR

Office of Surface Mining Reclamation and Enforcement

Notice of Proposed Information Collection for 1029-0057 and 1029-0087

AGENCY: Office of Surface Mining Reclamation and Enforcement.

ACTION: Notice and request for comments.

SUMMARY: In compliance with the Paperwork Reduction Act of 1995, the Office of Surface Mining Reclamation and Enforcement (OSM) is announcing its intention to request renewed approval for the collections of information for 30 CFR Part 882, Reclamation of private lands; and 30 CFR 886.23(b) and Form OSM-76, Abandoned Mine Land Problem Area Description form. The collections described below have been forwarded to the Office of Management and Budget (OMB) for review and comment. The information collection request describes the nature of the information collections and the expected burdens and costs.

DATES: OMB has up to 60 days to approve or disapprove the information collection but may respond after 30 days. Therefore, public comments should be submitted to OMB by April 16, 2007, in order to be assured of consideration.

ADDRESSES: Comments may be submitted to the Office of Information and Regulatory Affairs, Office of Management and Budget, Department of the Interior Desk Officer, via e-mail at OIRA_Docket@eop.gov, or by facsimile to (202) 395-6566. Also, please send a copy of your comments to John A. Trelease, Office of Surface Mining Reclamation and Enforcement, 1951 Constitution Ave, NW., Room 202-SIB, Washington, DC 20240, or electronically to jtreleas@osmre.gov. Please reference 1029-0057 for Part 882 and 1029-0087 for the OSM-76 form in your submission.

FOR FURTHER INFORMATION CONTACT: To receive a copy of either information collection request contact John A. Trelease at (202) 208-2783, or electronically at jtrelease@osmre.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. OSM has submitted requests to OMB to approve the collections of information for 30 CFR Part 882, Reclamation of private lands; and 30 CFR 886.23(b) and it's implementing Form OSM-76, Abandoned Mine Land Problem Area Description form. OSM is requesting a 3-year term of approval for these information collection activities.

An agency may not conduct or sponsor, and a person is not required to respond to, a collection of information unless it displays a currently valid OMB control number. The OMB control numbers for these collections of information are displayed in 30 CFR 882.10 for Part 882 (1029-0057), and on the form OSM-76 for 30 CFR 886.23(b) (1029-0087).

As required under 5 CFR 1320.8(d), a Federal Register notice soliciting comments on these collections of information was published on November 9, 2006 (71 FR 65834). No comments were received. This notice provides the public with an additional 30 days in which to comment on the following information collection activity:

Title: Reclamation on Private Lands, 30 CFR 882.

OMB Control Number: 1029-0057.

Summary: Public Law 95-87 authorizes Federal, State, and Tribal governments to reclaim private lands and allows for the establishment of procedures for the recovery of the cost of reclamation activities on privately owned lands. These procedures are intended to ensure that governments have sufficient capability to file liens so that certain landowners will not receive a windfall from reclamation.

Bureau Form Number: None.

Frequency of Collection: Once.

Description of Respondents: State governments and Indian tribes.

Total Annual Responses: 1.

Total Annual Burden Hours: 120.

Title: 30 CFR 886.23(b) and the Abandoned Mine Land Problem Area Description Form, OSM-76.

OMB Control Number: 1029-0087.

Summary: The regulation at 886.23(b) and its implementing form OSM-76 will be used to update the office of Surface Mining Reclamation and Enforcement's inventory of abandoned mine lands. From this inventory, the most serious problem areas are selected for reclamation through the apportionment of funds to States and Indian tribes.

Bureau Form Number: OSM-76.

Frequency of Collection: On occasion.

Description of Respondents: State governments and Indian tribes.

Total Annual Responses: 1,800.

Total Annual Burden Hours: 4,000.

Send comments on the need for the collection of information for the performance of the functions of the agency; the accuracy of the agency's burden estimates; ways to enhance the quality, utility and clarity of the information collection; and ways to minimize the information collection burden on respondents, such as use of automated means of collection of the information, to the following addresses. Please refer to the appropriate OMB control number in all correspondence.

Dated: January 9, 2007.
John R. Craynon,
Chief, Division of Regulatory Support.

[FR Doc. 07-1212 Filed 3-14-07; 8:45 am]

BILLING CODE 4310-05-M